DEPARTMENT OF HEALTH AND HUMAN SERVICES

Centers for Disease Control and Prevention

Board of Scientific Counselors, National Institute for Occupational Safety and Health (BSC, NIOSH)

In accordance with section 10(a) (2) of the Federal Advisory Committee Act (Pub. L. 92-463), the Centers for Disease Control and Prevention (CDC) announces the following meeting of the aforementioned committee:

Time and Date: 8:30 a.m.—3:00 p.m., June 20, 2014.

Place: Patriots Plaza I, 395 E Street, SW., Room 9200, Washington, DC 20201.

Status: Open to the public, limited only by the space available. The meeting room accommodates approximately 33 people. If you wish to attend in person or by webcast, please see the NIOSH Web site to register (http://www.cdc.gov/niosh/bsc/) or call (404) 498-2539 at least 48 hours in advance for building access information. Teleconference is available toll-free; please dial (888) 397-9578, Participant Pass Code 63257516.

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors shall provide guidance to the Director, National Institute for Occupational Safety and Health on research and prevention programs. Specifically, the Board shall provide guidance on the Institute's research activities related to developing and evaluating hypotheses, systematically documenting findings and disseminating results. The Board shall evaluate the degree to which the activities of the National Institute for Occupational Safety and Health: (1) Conform to appropriate scientific standards, (2) address current, relevant needs, and (3) produce intended results.

Matters for Discussion: NIOSH Director Update; Implementation of the National Academies Program Recommendations, NIOSH Disaster Science Research Initiative to Enhance Responder Safety and Health, and the NIOSH Center for Motor Vehicle Safety.

Agenda items are subject to change as priorities dictate. An agenda is also posted on the NIOSH Web site (http://www/cdc/gov/niosh/bsc).

Contact Person for More Information: John Decker, Designated Federal Officer, BSC, NIOSH, CDC, 1600 Clifton Road, NE., MS-E20, Atlanta, Georgia 30329-4018, telephone (404) 498-2500, fax (404) 498-2526.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2014-11967 Filed 5-22-14; 8:45 am]

BILLING CODE 4163-19-P